DEPARTMENT OF THE INTERIOR

Bureau of Land Management

[MT-069-1020-XZ-037E]

Notice of Relocation/Change of Address/Office Closure; Montana

AGENCY: Bureau of Land Management; Interior.

ACTION: Notice.

SUMMARY: Notice is given that on February 24, 2005, the Bureau of Land Management's Lewistown Field Office will relocate/move to a new location at 220 Cattail Drive.

EFFECTIVE DATE: February 24, 2005.

FOR FURTHER INFORMATION CONTACT: June Bailey, Lewistown Field Manager, 406/583-7461, BLM Lewistown Field Office, 1160 Airport Road, Lewistown, Montana 59457.

SUPPLEMENTARY INFORMATION: On February 24, 2005, the BLM Lewistown Field Office will move/relocate to 220 Cattail Drive, Lewistown, Montana 59457. The following business practices will be in effect from February 24 through March 1, 2005.

(A) The old office will be closed on February 24-28, 2005. There will be no over-the-counter transactions or phone business during this period. The official records (case files, maps, plats, etc.) will not be available for pubic inspection. Emergency calls may be directed to (406) 538-7461 or (406) 366-1535.

(B) The shipping address will change. Effective February 25, 2005, all shipments should be sent to: 220 Cattail Drive, Lewistown, Montana 59457. The general mail address will remain the same: P.O. Box 1160, Lewistown, Montana 59457.

(C) The main office telephone number will remain the same: (406) 538-7461.

(D) The BLM Lewistown Field Office will resume full services on March 1, 2005, at 220 Cattail Drive, Lewistown, Montana 59457.

Dated: January 21, 2005.
June Bailey,
Lewistown Field Manager.

[FR Doc. 05-1512 Filed 1-26-05; 8:45 am]

BILLING CODE 4310-$$-P